JUDICIAL CONFERENCE OF THE UNITED STATES

Meeting of the Judicial Conference Advisory Committee on Rules of Evidence Procedure

AGENCY: Judicial Conference of the United States, Advisory Committee on Rules of Evidence Procedure.

ACTION: Notice of open meeting.

SUMMARY: The Advisory Committee on Rules of Evidence Procedure will hold a one-day meeting. The meeting will be open to public observation but not participation.

DATES: November 16, 2007.

Time: 8:30 a.m. to 5 p.m.

ADDRESSES: Thurgood Marshall Federal Judiciary Building, Mecham Conference Center, One Columbus Circle, NE., Washington, DC 20544.

FOR FURTHER INFORMATION CONTACT: John K. Rabiej, Chief, Rules Committee Support Office, Administrative Office of the United States Courts, Washington, DC 20544, telephone (202) 502-1820.

Dated: July 9, 2007.
James Ishida,
Senior Attorney Advisor, Rules Committee Support Office.

[FR Doc. 07-3470 Filed 7-16-07; 8:45 am]

BILLING CODE 2210-55-M